DEPARTMENT OF HOMELAND SECURITY

Federal Emergency Management Agency

[Docket ID FEMA-2019-0002; Internal Agency Docket No. FEMA-B-1936]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 9, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1936, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance”)

Michael M. Grimm,
Assistant Administrator for Risk Management, Department of Homeland Security, Federal Emergency Management Agency.

Community | Community map repository address
Claiborne County, Mississippi and Incorporated Areas
Project: 13-04-8486S Preliminary Date: February 9, 2018
Unincorporated Areas of Claiborne County | Claiborne County William “Matt” Ross Administration Building, 510 Market Street, Port Gibson, MS 39150.
Hinds County, Mississippi and Incorporated Areas
Project: 13-04-8486S Preliminary Date: February 9, 2018
City of Byram | Public Works Building, 550 Executive Boulevard, Byram, MS 39272.
City of Clinton | Municipal Annex Building, 961 Highway 80 East, Clinton, MS 39056.
City of Jackson | Warren Hood Building, 200 South President Street, Suite 424, Jackson, MS 39201.
Unincorporated Areas of Hinds County | Hinds County Annex Building, 127 West Main Street, Raymond, MS 39154.
Madison County, Mississippi and Incorporated Areas
Project: 13-04-8486S Preliminary Date: February 9, 2018 and August 17, 2018
City of Canton | City Hall, 226 East Peace Street, Canton, MS 39046.
City of Madison | City Hall, 1004 Madison Avenue, Madison, MS 39110.
City of Ridgeland | City Hall, 304 Highway 51, Ridgeland, MS 39157.
Pearl River Valley Water Supply District | Pearl River Valley Water Supply District Building and Permit Department, 1864 Spillway Road, Brandon, MS 39047.
Unincorporated Areas of Madison County | Madison County Administrative Building, 125 West North Street, Canton, MS 39046.
Rankin County, Mississippi and Incorporated Areas
Project: 14-04-0108S Preliminary Date: February 9, 2018
City of Brandon | Guest Consultants, 26 Eastgate Drive, Suite C, Brandon, MS 39042.
City of Florence | City Hall, 203 College Street, Florence, MS 39073.
City of Flowood | Engineering Building, 109 Woodline Drive, Flowood, MS 39232.
City of Jackson | Department of Public Works, 200 South President Street, Jackson, MS 39201.
City of Pearl | City Hall, 2420 Old Brandon Road, Pearl, MS 39208.
Pearl River Valley Water Supply District | Pearl River Valley Water Supply District Building and Permit Department, 1864 Spillway Road, Brandon, MS 39047.
Unincorporated Areas of Rankin County | Rankin County Old Courthouse, 117 North Timber Street, Brandon, MS 39042.
Scott County, Mississippi and Incorporated Areas
Project: 14-04-0108S Preliminary Date: February 9, 2018
Unincorporated Areas of Scott County | Scott County Chancery Clerk's Office, 100 East Main Street, Forest, MS 39074.
Smith County, Mississippi and Incorporated Areas
Project: 14-04-0108S Preliminary Date: February 9, 2018
Unincorporated Areas of Smith County | Smith County Emergency Management Building, 143 Main Street, Raleigh, MS 39153.
Clay County, South Dakota and Incorporated Areas
Project: 18-08-0015S Preliminary Date: January 23, 2019
City of Vermillion | City Hall, 25 Center Street, Vermillion, SD 57069.
Town of Wakonda | Town Office, 111 Ohio Street, Wakonda, SD 57073.
Unincorporated Areas of Clay County | Clay County Courthouse, 211 West Main Street, Vermillion, SD 57069.
Union County, South Dakota and Incorporated Areas
Project: 16-08-0212S Preliminary Date: January 10, 2019
City of Alcester | City Hall, 106 West 2nd Street, Alcester, SD 57001.
City of Beresford | City Hall, 101 North 3rd Street, Beresford, SD 57004.
City of Elk Point | City Hall, 106 West Pleasant Street, Elk Point, SD 57025.
City of North Sioux City | City Hall, 504 River Drive, North Sioux City, SD 57049.
Unincorporated Areas of Union County | Union County Courthouse, 209 East Main Street, Suite 100, Elk Point, SD 57025.

[FR Doc. 2019-12304 Filed 6-10-19; 8:45 am]

BILLING CODE 9110-12-P